DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting topics are identified in the SUPPLEMENTARY INFORMATION.

DATES: The Aquatic Nuisance Species Task Force will meet from 8:30 a.m. to 5:00 p.m., Wednesday, April 4, 2001 and 8:30 a.m. to 5:00 p.m., Thursday, April 5, 2001.

ADDRESSES: The ANS Task Force meeting will be held at the Hilton San Francisco Fisherman's Wharf, 2620 Jones Street, San Francisco, California.

FOR FURTHER INFORMATION CONTACT: Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a meeting of the Aquatic Nuisance Species Task Force. The Task Force was established by the Nonindigenous Aquatic Nuisance Prevention and Control Act of 1990.

Topics to be covered during the ANS Task Force meeting on Wednesday and Thursday include: An update of activities from the Task Force's regional panels; the development of a strategic plan for the ANS Task Force; the Plant Protection Act; a report from the Ballast Water Program Effectiveness and Adequacy Criteria Committee; status and updates from several other Task Force committees including the Green Crab Control Committee, the Caulerpa Prevention Committee, the Mitten Crab Control Committee and the Communications, Education and Outreach Committee; and other topics.

Minutes of the meeting will be maintained by the Executive Secretary, Aquatic Nuisance Species Task Force, Suite 810, 4401 North Fairfax Drive, Arlington, Virginia 22203-1622, and will be available for public inspection during regular business hours, Monday through Friday.

Dated: March 12, 2001.
Cathleen Short,
Co-Chair, Aquatic Nuisance Species Task Force, Assistant Director—Fisheries and Habitat Conservation.

[FR Doc. 01-6949 Filed 3-20-01; 8:45 am]

BILLING CODE 4310-55-M